DEPARTMENT OF TRANSPORTATION

Federal Aviation Administration

14 CFR Part 39

[Docket No. 2002-SW-49-AD; Amendment 39-13238; AD 2003-14-19]

RIN 2120-AA64

Airworthiness Directives; Eurocopter France Model SA-365N, N1, AS-365N2, AS 365 N3, SA-366G1, AS355F, F1, F2, N, and EC130 B4 Helicopters

AGENCY: Federal Aviation Administration, DOT.

ACTION: Final rule.

SUMMARY: This amendment adopts a new airworthiness directive (AD) for the specified Eurocopter France (Eurocopter) model helicopters that requires removing certain main servocontrols and replacing them with servocontrols that do not fall within the “Applicability” of this AD at specified intervals. This amendment is prompted by the discovery of an incorrect tightening torque load found on servocontrols that were overhauled by Hawker Pacific Aerospace. The actions specified by this AD are intended to prevent thread failure, separation of the upper end fitting that attaches the servocontrol cylinder to the upper ball end-fitting, and subsequent loss of control of the helicopter.

DATES: Effective August 21, 2003.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION: A proposal to amend 14 CFR part 39 to include an AD for Eurocopter Model SA-365N, N1, AS-365N2, AS 365 N3, SA-366G1, AS355 F, F1, F2, N, and EC130 B4 helicopters with certain servocontrols installed was published in the Federal Register on February 14, 2003 (68 FR 7451). That action proposed to require removing the servocontrol and replacing it with a servocontrol that does not fall within the “Applicability” of the AD at specified intervals.

The Direction Generale De L'Aviation Civile (DGAC), the airworthiness authority for France, notified the FAA that an unsafe condition may exist on Eurocopter Model AS 365 N, EC 130, AS 355, and SA 366 helicopters. The DGAC advises of a report of incorrect tightening torque load found in service on servocontrols that were overhauled by Hawker Pacific Aerospace.

Eurocopter has issued the following alert telexes, all dated April 29, 2002, which specify removing the servocontrols and returning them to the Hawker Pacific Aerospace:

• Alert Telex No. 67.00.08 for Model AS-365N, N1, N2, and N3 helicopters;

• Alert Telex No. 67.03 for Model AS-366G1 helicopters;

• Alert Telex No. 67.00.23 for Model AS355F, F1, F2, and N helicopters;

• Alert Telex No. 67A001 for Model EC130 B4 helicopters.

The DGAC classified these alert telexes as mandatory and issued AD No's. 2002-312-056(A), 2002-313-027(A), 2002-315-069(A), and 2002-316-004(A), all dated June 12, 2002, to ensure the continued airworthiness of these helicopters in France.

Interested persons have been afforded an opportunity to participate in the making of this amendment. No comments were received on the proposal or the FAA's determination of the cost to the public. The FAA has determined that air safety and the public interest require the adoption of the rule as proposed.

On July 10, 2002, the FAA issued a new version of 14 CFR part 39 (67 FR 47997, July 22, 2002), which governs the FAA's AD system. The regulation now includes material that relates to altered products, special flight permits, and alternative methods of compliance. However, for clarity and consistency in this final rule, we have retained the language of the NPRM regarding that material.

The FAA estimates that 252 helicopters of U.S. registry will be affected by this AD, that it will take approximately 8 work hours per helicopter to accomplish the required actions, and that the average labor rate is $60 per work hour. Required parts will cost approximately $6,853, but the manufacturer has stated in the service information that it will rework the servocontrols at no cost to the owner/operator. Based on these figures, the total cost impact of the AD on U.S. operators is estimated to be $1,847,916, assuming no costs are covered by the manufacturer's warranty.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas; or at the Office of the Federal Register, 800 North Capitol Street, NW., suite 700, Washington, DC.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-14-19 Eurocopter France: Amendment 39-13238. Docket No. 2002-SW-49-AD.

Applicability: Model SA-365N, N1, AS-365N2, N3, SA-366 G1, AS355F, F1, F2, N and EC130 B4 helicopters, with TRW-SAMM main servocontrols, part number SC8031, SC8031A, SC8031-1, SC8031-2, SC8032-1, SC8032-2, SC8033-1, SC8033-2, SC8034-1, SC8034-2, SC8042 or SC8043, overhauled or repaired at Hawker Pacific Aerospace before March 1, 2002, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent thread failure, separation of the upper end-fitting that attaches the servocontrol cylinder to the upper ball end-fitting, and subsequent loss of control of the helicopter, accomplish the following:

(a) Replace each servocontrol with a servocontrol that does not fall within the “Applicability” of this AD in accordance with the following table:

For servocontrols that have been in service for: | Replace the servocontrols:
(1) Less than 1,000 hours time-in-service (TIS) | Within the next 550 hours TIS or 12 months, whichever occurs first.
(2) 1,000 or more hours TIS; less than 1,300 | Before the servocontrols reach 1,550 hours TIS or within 9 months, whichever occurs first.
(3) 1,300 or more hours TIS; | Within the next 250 hours TIS or 6 months, whichever occurs first.

Note 2: Eurocopter Alert Telex No. 67.00.08 for Model AS 365 N, N1, N2, and N3 helicopters; Alert Telex No. 67.03 for Model AS 366 G1 helicopters; Alert Telex No. 67.00.23 for Model AS 355 F, F1, F2, and N helicopters; and Alert Telex No. 67A001 for Model EC 130 B4 helicopters, all dated April 29, 2002, pertain to the subject of this AD.

(b) An alternative method of compliance or adjustment of the compliance time that provides an acceptable level of safety may be used if approved by the Manager, Safety Management Group, Rotorcraft Directorate, FAA. Operators shall submit their requests through an FAA Principal Maintenance Inspector, who may concur or comment and then send it to the Manager, Safety Management Group.

Note 3: Information concerning the existence of approved alternative methods of compliance with this AD, if any, may be obtained from the Safety Management Group.

(c) Special flight permits may be issued in accordance with 14 CFR 21.197 and 21.199 to operate the helicopter to a location where the requirements of this AD can be accomplished.

(d) This amendment becomes effective on August 21, 2003.

Note 4: The subject of this AD is addressed in Direction De L'Aviation Civile (France) AD No's. 2002-312-056(A), 2002-313-027(A), 2002-315-069(A), and 2002-316-004(A), all dated June 12, 2002.

Issued in Fort Worth, Texas, on July 8, 2003.
Mark R. Schilling,
Acting Manager, Rotorcraft Directorate, Aircraft Certification Service.

[FR Doc. 03-17947 Filed 7-16-03; 8:45 am]

BILLING CODE 4910-13-P